DEPARTMENT OF ENERGY

Federal Energy Regulatory Commission

[Docket No. EG01-285-000, et al.]

FPL Energy Operating Services, Inc., et al.; Electric Rate and Corporate Regulation Filings

August 30, 2001.

Take notice that the following filings have been made with the Commission:

1. FPL Energy Operating Services Inc.

[Docket No. EG01-285-000]

Take notice that on August 24, 2001, FPL Energy Operating Services, Inc. (the Applicant), with its principal office at 700 Universe Boulevard, Juno Beach, Florida 33408, filed with the Commission an application for determination of exempt wholesale generator status pursuant to Part 365 of the Commission's regulations.

Applicant states that it is a Florida corporation who entered into an O&M Agreement to operate and maintain (i) a nominal 708 megawatt (MW) gas-fired combined cycle power generation facility and (ii) a nominal 171 MW gas-fired simple cycle power generation facility (Facility) located in Ashland County, Virginia. Electric energy produced by the Facility is sold at wholesale.

Comment date: September 20, 2001, in accordance with Standard Paragraph E at the end of this notice. The Commission will limit its consideration of comments to those that address the adequacy or accuracy of the application.

2. King City Energy Center, LLC.

[Docket No. EG01-286-000]

Take notice that on August 28, 2001, King City Energy Center, LLC (King City) filed with the Federal Energy Regulatory Commission (Commission) an application for determination of exempt wholesale generator status pursuant to part 365 of the Commission's regulations.

King City, a Delaware limited liability company, proposes to own and operate one 45 MW simple cycle natural gas-fired combustion turbine peaking unit located in King City, California. King City will sell the output at wholesale to Calpine Energy Services, L.P., and other purchasers.

Comment date: September 20, 2001, in accordance with Standard Paragraph E at the end of this notice. The Commission will limit its consideration of comments to those that address the adequacy or accuracy of the application.

3. Gilroy Energy Center, LLC.

[Docket No. EG01-287-000]

Take notice that on August 28, 2001, Gilroy Energy Center, LLC (Gilroy) filed with the Federal Energy Regulatory Commission (Commission), an application for determination of exempt wholesale generator status pursuant to part 365 of the Commission's regulations.

Gilroy, a Delaware limited liability company, proposes to own and operate six simple cycle natural gas-fired combustion turbine peaking units located in Gilroy, California. Gilroy will sell the output at wholesale to Calpine Energy Services, L.P., and other purchasers.

Comment date: September 20, 2001, in accordance with Standard Paragraph E at the end of this notice. The Commission will limit its consideration of comments to those that address the adequacy or accuracy of the application.

4. Atlantic City Electric Company, Baltimore Gas and Electric Company, Delmarva Power & Light Company, Metropolitan Edison Company, Potomac Electric Power Company, PECO Energy Company, PPL Electric Utilities Corporation, Public Service Electric and Gas Company, UGI Utilities, Inc.

[Docket No. ER01-897-002]

Take notice that on August 27, 2001 Atlantic City Electric Company, Baltimore Gas & Electric Company, Delmarva Power & Light Company, Metropolitan Edison Company, PECO Energy Company, Potomac Electric Power Company, PPL, Inc., Public Service Electric & Gas Company, UGI Utilities, Inc. tendered for filing in compliance with the Federal Energy Regulatory Commission's (Commission) delegated letter order issued on April 27, 2001, in the above captioned docket, pages which have been formatted to comply with the Order No. 614, FERC Stats. & Regs. ¶ 31,096 (2000) pagination requirements that are applicable to rate schedules: Atlantic City Electric Company Rate Schedule FERC No. 75; Delmarva Power & Light Company Rate Schedule FERC No. 124; Metropolitan Edison Company Rate Schedule FERC No. 77; PECO Energy Company Rate Schedule FERC No. 123; Potomac Electric Power Company Rate Schedule FERC No. 46; Public Service Electric and Gas Company Rate Schedule FERC No. 166; UGI Utilities, Inc. Rate Schedule FERC No. 9; Baltimore Gas and Electric Company Rate Schedule FERC No. 58; PPL Electric Utilities Corporation Rate Schedule FERC No. 168.

Comment date: September 17, 2001, in accordance with Standard Paragraph E at the end of this notice.

5. Pennsylvania Electric Company

[Docket No. ER01-900-002]

Take notice that on August 27, 2001 Pennsylvania Electric Company tendered its compliance filing with the Federal Energy Regulatory Commission's (Commission) delegated letter order issued on April 27, 2001, in the above captioned docket, pages which have been formatted to comply with the Order No. 614, FERC Stats. & Regs. ¶ 31,096 (2000) pagination requirements that are applicable to rate schedules: Pennsylvania Electric Company Rate Schedule FERC No. 63.

Comment date: September 17, 2001, in accordance with Standard Paragraph E at the end of this notice.

6. Pennsylvania Electric Company

[Docket No. ER01-901-002]

Take notice that on August 27, 2001, Pennsylvania Electric Power Company tendered its compliance filing with the Federal Energy Regulatory Commission's (Commission) delegated letter order issued on April 27, 2001, in the above captioned docket, pages which have been formatted to comply with the Order No. 614, FERC Stats. & Regs. ¶ 31,096 (2000) pagination requirements that are applicable to rate schedule: Pennsylvania Electric Company FERC Rate Schedule No. 100.

Comment date: September 17, 2001, in accordance with Standard Paragraph E at the end of this notice.

7. CP&L Holdings, Inc., et al.

[Docket No. ER00-1520-003]

Take notice that on August 23, 2001, Progress Energy, Inc. (Progress Energy), on behalf of Carolina Power & Light Company (CP&L) and Florida Power Corporation (FPC), tendered for filing First Revised Rate Schedule FERC No. 1-System Integration Agreement between CP&L and FPC (Revised SIA) in compliance with CP&L Holdings, et al., 92 FERC ¶ 61,023 (2000).

Progress Energy respectfully requests that the Revised SIA become effective August 24, 2001, the day after filing.

Copies of the filing were served to North Carolina Utilities Commission, the South Carolina Public Service Commission and the Florida Public Service Commission.

Comment date: September 13, 2001, in accordance with Standard Paragraph E at the end of this notice.

8. Entergy Services, Inc., On Behalf of the Entergy Operating Companies: Entergy Arkansas, Inc., Entergy Gulf States, Inc., Entergy Louisiana, Inc., Entergy Mississippi, Inc., and Entergy New Orleans, Inc.

[Docket No. ER01-2201-001]

Take notice that on August 27, 2001, Entergy Services, Inc., on behalf of the Entergy Operating Companies, Entergy Arkansas, Inc., Entergy Gulf States, Inc., Entergy Louisiana, Inc., Entergy Mississippi, Inc., and Entergy New Orleans, Inc., tendered its compliance filing in response to the Federal Energy Regulatory Commission's (Commission) order in Entergy Services, Inc., 96 FERC 61,148 (2001).

Comment date: September 17, 2001, in accordance with Standard Paragraph E at the end of this notice.

9. Entergy Services, Inc.

[Docket No. ER01-2214-001]

Take notice that on August 24, 2001, Entergy Services, Inc., tendered its compliance filing in response to the Federal Energy Regulatory Commission's (Commission) order in Entergy Services, Inc., 96 FERC ¶ 61,113 (2001).

Comment date: September 14, 2001, in accordance with Standard Paragraph E at the end of this notice.

10. Metro Energy, L.L.C.

[Docket No. ER01-2317-001]

Take notice that on August 24, 2001, Metro Energy, L.L.C. (Metro Energy) made a compliance filing in the above-referenced proceeding, as directed by the Federal Energy Regulatory Commission's (Commission) August 13, 2001 letter order conditionally accepting Metro Energy's market-based rate schedule for filing.

Comment date: September 14, 2001, in accordance with Standard Paragraph E at the end of this notice.

11. PJM Interconnection, L.L.C.

[Docket No. ER01-2351-001]

Take notice that on August 24, 2001, in compliance with PJM Interconnection, L.L.C., 96 FERC ¶ 61,210 (2001), PJM Interconnection, L.L.C. (PJM) tendered for filing proposed amendments to Section 18.17.1(b) to correct a typographical error.

PJM states that it served copies of this filing on all parties of record in Docket No. ER01-2351-000, all PJM members, and the state electric regulatory commissions in the PJM control area.

Comment date: September 14, 2001, in accordance with Standard Paragraph E at the end of this notice.

12. AES Red Oak, L.L.C.

[Docket No. ER01-2401-001]

Take notice that on August 23, 2001, AES Red Oak, L.L.C. revised its Market Based Rate Tariff (FERC Electric Tariff Original Vol. No. 1), Docket No. ER01-2401-000 in accordance with the Federal Energy Regulatory Commission's (Commission) Rules and Regulations.

Comment date: September 13, 2001, in accordance with Standard Paragraph E at the end of this notice.

13. Competitive Energy Services, LLC

[Docket No. ER01-2562-001]

Take notice that on August 24, 2001, Competitive Energy Services, LLC (CES) filed a supplement to its application for market-based rates as power marketer. The supplemental information pertains to the ownership of CES.

Copies of this filing are on file with the Commission and are available for public inspection.

Comment date: September 14, 2001, in accordance with Standard Paragraph E at the end of this notice.

14. Florida Power Corporation

[Docket No. ER01-2621-001]

Take notice that on August 24, 2001, Florida Power Corporation (FPC) tendered for filing a revision to its Cost-Based Wholesale Power Sales Tariff, FERC Electric Tariff, First Revised Volume No. 9 (CR-1 Tariff). The CR-1 Tariff is revised to include provisions for affiliate sales, consistent with Detroit Edison Company, 80 FERC ¶ 61,348 (1997), and provisions for the resale of transmission rights, consistent with Commonwealth Edison Company, 78 FERC ¶ 61,312 (1997). FPC requests that the revision become effective August 25, 2001.

Copies of the filing were served upon FPC's customers receiving service under the CR-1 Tariff and the Florida Public Service Commission.

Comment date: September 14, 2001, in accordance with Standard Paragraph E at the end of this notice.

15. Western Resources, Inc.

[Docket No. ER01-2752-000]

Take notice that on August 24, 2001, Western Resources, Inc.(WR) filed for withdrawal of Service Agreement No. 87 of Federal Energy Regulatory Commission (FERC) Electric Tariff First Revised No. 6 with Southern Company Energy Marketing L.P. (Southern). WR states the reason for the withdrawal is due to the fact that its submission on August 1, 2001, is duplicative to a previously accepted filing. WR requests an effective date of withdrawal of August 1, 2001.

Notice of the withdrawal has been served upon Southern and the Kansas Corporation Commission.

Comment date: September 14, 2001, in accordance with Standard Paragraph E at the end of this notice.

16. New England Power Pool

[Docket No. ER01-2922-000]

Take notice that on August 27, 2001, the New England Power Pool (NEPOOL) submitted, with the support and concurrence of ISO New England Inc. and National Grid USA (on behalf of its subsidiary, New England Power Company (NEP)), a filing pursuant to Section 205 of the Federal Power Act and Section 35 of the Federal Energy Regulatory Commission's (Commission) regulations, describing a transmission maintenance/construction pilot project relating to the refurbishment by NEP of a 345 kV PTF line located in central Massachusetts (Line 343). The Transmission Incentive Pilot concerns the refurbishment by NEP of Line 343 using innovative work practices to minimize line outages, resulting in avoided energy costs for New England customers.

The NEPOOL Participants Committee states that a copy of this filing was sent to the NEPOOL Participants and the New England state governors and regulatory commissions.

Comment date: September 17, 2001, in accordance with Standard Paragraph E at the end of this notice.

17. Entergy Services, Inc.

[Docket No. ER01-2923-000]

Take notice that on August 27, 2001, Entergy Services, Inc., on behalf of Entergy Arkansas, Inc., Entergy Gulf States, Inc., Entergy Louisiana, Inc., Entergy Mississippi, Inc., and Entergy New Orleans, Inc., (collectively, the Entergy Operating Companies) tendered for filing a long-term Firm Point-To-Point Transmission Service Agreement between Entergy Services, Inc., as agent for the Entergy Operating Companies, and Duke Energy Trading and Marketing, LLC.

Comment date: September 17, 2001, in accordance with Standard Paragraph E at the end of this notice.

18. West Valley Generation LLC

[Docket No. ER01-2942-000]

Take notice that on August 13, 2001, West Valley Generation LLC changed their name from PPM Six LLC in accordance with Section 35.16 of the Federal Energy Regulatory Commission's Rules and Regulations.

Comment date: September 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22365 Filed 9-5-01; 8:45 am]

BILLING CODE 6717-01-P